ENVIRONMENTAL PROTECTION AGENCY

[ER-FRL-8585-8]

Environmental Impacts Statements; Notice of Availability

Responsible Agency: Office of Federal Activities, General Information (202) 564-1399 or http://www.epa.gov/compliance/nepa/

Weekly Receipt of Environmental Impact Statements

Filed 10/13/2008 Through 10/17/2008

Pursuant to 40 CFR 1506.9.

EIS No. 20080423, Final EIS, AFS, SD, West Rim Project, Proposes to Implement Multiple Resource Management Actions, Northern Hills Ranger District, Black Hills National Forest, Lawrence County, SD, Wait Period Ends: 11/24/2008, Contact: Chris Stores 605-642-4622

EIS No. 20080424, Final EIS, NOA, 00, Reef Fish Amendment 30B: Gag-End Overfishing and Set Management Thresholds and Targets; Red Grouper—Set Optimum Yield, Total Allowable Catch (TAC), and Management Measures: Area Closures: and Federal Regulatory Compliance, Implementation, Gulf of Mexico, Wait Period Ends: 11/24/2008, Contact: Roy E. Crabtree 727-824-5305

EIS No. 20080425, Final EIS, NOA, 00, Amendment 4 to the Spiny Lobster Fishery Management Plan of Puerto Rico and the U.S. Virgin Islands and Amendment 8 to the Spiny Lobster Fishery Management Plan of the Gulf of Mexico and South Atlantic, To Address the Harvest and Exportation of Undersized Lobster Tails to the United States, Wait Period Ends: 11/24/2008, Contact: Roy E. Crabtree 727-824-5301

EIS No. 20080426, Draft EIS, BLM, WY, South Gillette Area Coal Lease Applications, WYW172585, WYW173360, WYW172657, WYW161248, Proposal to Lease Four Tracts of Federal Coal Reserves, Belle Ayr, Coal Creek, Caballo, and Cordero Rojo Mines, Wyoming Powder River Basin, Campbell County, WY, Comment Period Ends: 12/23/2008, Contact: Sarah Bucklin 307-261-7587

EIS No. 20080427, Final EIS, AFS, WI, Medford Aspen Project, Preferred Alternative is Alternative 3, To Implement a Number of Vegetation and Transportation Management Activities, Medford-Park Falls Ranger District, Chequamegon-Nicolet National Forest, Taylor County, WI, Wait Period Ends: 11/24/2008, Contact: Jane Darnell 715-748-4875 Ext. 38

EIS No. 20080428, Final EIS, OSM, 00, Excess Spoil Minimization Stream Buffer Zones, Proposed Revisions to the Permanent Program Regulations Implementing the Surface Mining Control and Reclamation Act of 1977 Concerning the Creation and Disposal of Excess Spoil and Coal Mine Waste and Stream Buffer Zones, Permit Application, Wait Period Ends: 11/24/2008, Contact: David Hartos 412-937-2909

EIS No. 20080429, Final EIS, BLM, 00, PROGRAMMATIC—Geothermal Leasing in the Western United States, Wait Period Ends: 11/24/2008, Contact: Jack G. Peterson 208-373-4048

EIS No. 20080430, Final EIS, COE, CA, Three Rivers Levee Improvement Authority, proposes construct and maintain the Feather River Levee Repair Project, Segment 2, Issuing 408 Permission and 404 Permit, Yuba County, CA, Wait Period Ends: 11/24/2008, Contact: John Suazo 916-557-6719

EIS No. 20080431, Final EIS, NSA, 00, PROGRAMMATIC—EIS—Complex Transformation, To Make the US Nuclear Weapon Complex Smaller, and more Responsive, Efficient and Secure in Order to Meet National Security Requirements, CA, NV, NM, SC, TN and TX, Wait Period Ends: 11/24/2008, Contact: Theodore A. Wyka 1-800-832-0885 Ext. 63519

Amended Notices

EIS No. 20080417, Final EIS, UAF, FL, Eglin Air Force Base Program, Base Realignment and Closure (BRAC) 2005 Decisions and Related Action, Implementation, FL, Wait Period Ends: 11/17/2008, Contact: Mike Spaits 850-882-2878 Revision to FR Notice Published 10/17/2008: Correction to telephone number.

Dated: October 21, 2008.
Ken Mittelholtz,
Environmental Protection Specialist, Office of Federal Activities.

[FR Doc. E8-25457 Filed 10-23-08; 8:45 am]

BILLING CODE 6560-50-P